DEPARTMENT OF TRANSPORTATION

Pipeline and Hazardous Materials Safety Administration

Hazardous Materials: Notice of Applications for Modifications to Special Permits

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein.

DATES: Comments must be received on or before January 27, 2022.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: 1—Motor vehicle, 2—Rail freight, 3—Cargo vessel, 4—Cargo aircraft only, 5—Passenger-carrying aircraft.

Copies of the applications are available for inspection in the Records Center, East Building, PHH-13, 1200 New Jersey Avenue Southeast, Washington DC.

This notice of receipt of applications for special permit is published in accordance with part 107 of the Federal hazardous materials transportation law (49 U.S.C. 5117(b); 49 CFR 1.53(b)).

Issued in Washington, DC, on January 7, 2022.
Donald P. Burger,
Chief, General Approvals and Permits Branch.

Special Permits Data
Application No. | Applicant | Regulation(s) affected | Nature of the special permits thereof
9221-M | Applied Pressure Vessels, Inc | 173.302a(a) | To modify the special permit to authorize an additional cylinder. (modes 1, 2, 3, 4).
10945-M | Structural Composites Industries LLC | 173.302a(a), 173.304a(a), 175.3, 180.205 | To modify the special permit to authorize additional hazardous materials. (modes 1, 2, 3, 4, 5).
16410-M | Snap-On Incorporated |  | To modify the special permit to authorize lithium ion or metal cells or batteries conforming to 49 CFR 173.185(c)(iv). (mode 1).
21139-M | KULR Technology Corporation | 172.200, 172.700(a) | To modify the special permit to increase the authorized aggregate energy content of a single inner package to 2.5 kWh. (modes 1, 2).
21163-M | United Initiators, Inc | 178.345-10(b)(1) | To modify the special permit to clarify the synopsis and to authorize customers to load and unload the packagings. (mode 1).
21167-M | KULR Technology Corporation | 173.185(a)(1) | To modify the special permit to increase the authorized aggregate energy content of a single inner package to 2.5 kWh. (modes 1, 2, 3, 4).
21193-M | KULR Technology Corporation | 172.200, 172.300, 172.700(a), 172.400, 172.500, 172.600, 173.185(f) | To modify the special permit to increase the authorized aggregate energy content of a single inner package to 2.5 kWh. (modes 1, 2).

[FR Doc. 2022-00451 Filed 1-11-22; 8:45 am]

BILLING CODE 4909-60-P